DEPARTMENT OF THE TREASURY

Agency Information Collection Activities; Submission for OMB Review; Comment Request; Multiple IRS Information Collection Requests

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before November 16, 2018 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW, Suite 8142, Washington, DC 20220, or email at PRA@treasury.gov.

FOR FURTHER INFORMATION CONTACT: Copies of the submissions may be obtained from Jennifer Leonard by emailing PRA@treasury.gov, calling (202) 622-0489, or viewing the entire information collection request at www.reginfo.gov.

SUPPLEMENTARY INFORMATION:

Internal Revenue Service (IRS)

Title: Return by a U.S. Transferor of Property to a Foreign Corporation.

OMB Control Number: 1545-0026.

Type of Review: Revision of a currently approved collection.

Abstract: Form 926 is filed by any U.S. person who transfers certain tangible or intangible property to a foreign corporation to report information required by section 6038B.

Form: 926.

Affected Public: Businesses or other for-profits.

Estimated Total Annual Burden Hours: 28,608.

Title: Form 1099-R—Distributions From Pensions, Annuities, Retirement or Profit-Sharing Plans, IRAs, Insurance Contracts, etc.

OMB Control Number: 1545-0110.

Type of Review: Revision of a currently approved collection.

Abstract: The Form 1099-DIV is used by the Service to insure that dividends are properly reported as required by Code section 6042 and that liquidation distributions are correctly reported as required by Code section 6043, and to determine whether payees are correctly reporting their income.

Form: 1099-DIV.

Affected Public: Businesses or other for-profits.

Estimated Total Annual Burden Hours: 32,119,195.

Title: Form 1099-R—Distributions From Pensions, Annuities, Retirement or Profit-Sharing Plans, IRAs, Insurance Contracts, etc.

OMB Control Number: 1545-0119.

Type of Review: Revision of a currently approved collection.

Abstract: Form 1099-R is used to report distributions from pensions, annuities, profit-sharing or retirement plans, IRAs, and the surrender of insurance contracts. This information is used by IRS to verify that income has been properly reported by the recipient.

Form: 1099-R.

Affected Public: Businesses or other for-profits.

Estimated Total Annual Burden Hours: 39,306,520.

Title: Form 2210, Underpayment of Estimated Tax by Individuals, Estate, and Trusts; Form 2210-F, Underpayment of Estimated Tax by Farmers and Fishermen.

OMB Control Number: 1545-0140.

Type of Review: Reinstatement with change of a previously approved collection.

Abstract: Internal Revenue Code section 6654 imposes a penalty for failure to pay estimated tax. These forms are used by taxpayers to determine whether they are subject to the penalty and to compute the penalty if it applies. The Service uses this information to determine whether the taxpayer is subject to the penalty, and to verify the penalty amount.

Form: 2210, 2210-F.

Affected Public: Businesses or other for-profits.

Estimated Total Annual Burden Hours: 496,337.

Title: Form 4684—Casualties and Thefts.

OMB Control Number: 1545-0177.

Type of Review: Revision of a currently approved collection.

Abstract: Form 4684 is used by taxpayers to compute their gain or loss from casualties or thefts, and to summarize such gains and losses. The data is used to verify that the correct gain or loss has been computed.

Form: 4684.

Affected Public: Individuals or Households.

Estimated Total Annual Burden Hours: 1,293,895.

Title: Form 8233—Exemption From Withholding on Compensation for Independent (and Certain Dependent) Personal Services of a Nonresident Alien Individual.

OMB Control Number: 1545-0795.

Type of Review: Revision of a currently approved collection.

Abstract: Compensation paid to a nonresident alien (NRA) individual for independent personal services (self-employment) is generally subject to 30% withholding or graduated rates. However, compensation may be exempt from withholding because of a U.S. tax treaty or personal exemption amount. Form 8233 is used to request exemption from withholding.

Form: 8233.

Affected Public: Individuals or Households.

Estimated Total Annual Burden Hours: 669,211.

Title: Form 8858—Information Return of U.S. Persons With Respect To Foreign Disregarded Entities; and Transactions Between Foreign Disregarded Entity of a Foreign Tax Owner and the Filer.

OMB Control Number: 1545-0910.

Type of Review: Revision of a currently approved collection.

Abstract: Form 8858 and Schedule M (Form 8858) are used by certain U.S. persons that own a foreign disregarded entity (FDE) directly or, in certain circumstances, indirectly or constructively. The form and schedules are used to satisfy the reporting requirements of sections 6011, 6012, 6031, and 6038, and related regulations.

Form: 8858, Sch M (F. 8858).

Affected Public: Businesses or other for-profits.

Estimated Total Annual Burden Hours: 917,800.

Title: Form 8621—Information Return by a Shareholder of a Passive Foreign Investment Company or Qualified Electing Fund.

OMB Control Number: 1545-1002.

Type of Review: Revision of a currently approved collection.

Abstract: Form 8621 is filed by a U.S. shareholder who owns stock in a foreign investment company. The form is used to report income, make an election to extend the time for payment of tax, and to pay an additional tax and interest amount. The IRS uses Form 8621 to determine if these shareholders have correctly reported amounts of income, made the election correctly, and have correctly computed the additional tax and interest amount.

Form: 8621.

Affected Public: Businesses or other for-profits.

Estimated Total Annual Burden Hours: 65,304.

Title: Form 1098 Mortgage Interest Statement; TD 8571 (Formerly IA-17-90) Reporting Requirements for Recipients of Points Paid on Residential Mortgages.

OMB Control Number: 1545-1380.

Type of Review: Revision of a currently approved collection.

Abstract: To encourage compliance with the tax laws relating to the mortgage interest deduction, the regulations require the reporting on Form 1098 of points paid on residential mortgage. Only businesses that receive mortgage interest in the course of a trade or business are affected by this reporting requirement.

Form: 1098.

Affected Public: Individuals or Households.

Estimated Total Annual Burden Hours: 19,211,581.

Title: Form 8864—Biodiesel and Renewable Diesel Fuels Credit.

OMB Control Number: 1545-1924.

Type of Review: Extension without change of a currently approved collection.

Abstract: Form 8864 is used to figure biodiesel and renewable diesel fuels credit and to claim the credit for the tax year in which the sale or use occurs. This credit consists of the biodiesel credit, renewable diesel credit, biodiesel mixture credit, renewable diesel mixture credit, and small agri-biodiesel producer credit. IRC section 40A provides a credit for biodiesel or qualified biodiesel mixtures. IRC section 38(b)(17) allows a nonrefundable income tax credit for businesses that sell or use biodiesel. The biodiesel and renewable diesel fuels credit is scheduled expired for fuel sold or used in calendar year 2017 only. Don't claim this credit for fuel sold or used after 2017 on Form 8864 unless the credit is extended.

Form: 8864.

Affected Public: Businesses or other for-profits.

Estimated Total Annual Burden Hours: 110.

Authority: 44 U.S.C. 3501 et seq.

Dated: October 11, 2018.
Jennifer P. Quintana,
Treasury PRA Clearance Officer.

[FR Doc. 2018-22554 Filed 10-16-18; 8:45 am]

BILLING CODE 4830-01-P